FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than May 18, 2020.

A. Federal Reserve Bank of Minneapolis (Chris P. Wangen, Assistant Vice President), 90 Hennepin Avenue, Minneapolis, Minnesota 55480-0291:

1. The Western National Bank and Affiliates Employee Stock Ownership Plan, Duluth, Minnesota, Stephen H. Lewis, Duluth, Minnesota, and William S. Lewis, Hermantown, Minnesota, as co-trustees; as members of a group acting in concert to retain voting shares of Western Bancorporation, Inc., and thereby indirectly retain voting shares of Western National Bank, both of Duluth, Minnesota; and Cass Lake Company and Western National Bank of Cass Lake, both of Cass Lake, Minnesota.

Board of Governors of the Federal Reserve System, April 28, 2020.
Yao-Chin Chao,
Assistant Secretary of the Board.

[FR Doc. 2020-09347 Filed 4-30-20; 8:45 am]

BILLING CODE P